DEPARTMENT OF JUSTICE

Antitrust Division

Notice Pursuant to the National Cooperative Research and Production Act of 1993—Cooperative Research Group on Advanced Combustion Catalyst and Aftertreatment Technologies-II

Notice is hereby given that, on February 6, 2019, pursuant to Section 6(a) of the National Cooperative Research and Production Act of 1993, 15 U.S.C. 4301 et seq. (“the Act”), Southwest Research Institute—Cooperative Research Group on Aftertreatment Technologies (“AC²AT-II”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Cummins, Inc., Columbus, IN; Denso Corporation, Aichi-ken, JAPAN; Isuzu, Tokyo, JAPAN; Komatsu Ltd., Tochigi-ken, JAPAN; and Weichai Power Co., Ltd., Weifang, PEOPLE'S REPUBLIC OF CHINA.

The general area of planned activities of AC²AT-II is to develop the most cost effective solutions for future engine systems by identifying and addressing the opportunities and challenges for integration of catalysts and aftertreatment systems to engines with advanced combustion technologies. The proposed program incorporates projects focused in four distinct areas: (1) Development of aftertreatment simulation tools; (2) low temperature catalyst design; (3) advanced aftertreatment system integration; and (4) catalyzed urea water solution (UWS).

Suzanne Morris,
Chief, Premerger and Division Statistics Unit, Antitrust Division.

[FR Doc. 2019-03534 Filed 2-27-19; 8:45 am]

BILLING CODE 4410-11-P